DEPARTMENT OF HEALTH AND HUMAN SERVICES

Indian Health Service

Health Promotion and Disease Prevention Announcement Type: New Cooperative Agreement Funding Opportunity Number: HHS-2009-IHS-HPDP-0001 Catalog of Federal Domestic Assistance Number: 93.443

Key Dates:

Application Deadline Date: July 17, 2009.

Application Review Date: July 27, 2009.

Application Notification: July 28, 2009.

Earliest Anticipated Start Date: August 3, 2009.

I. Funding Opportunity Description

The Indian Health Service (IHS) announces a cooperative agreement for Health Promotion and Disease Prevention (HP/DP). This Program is authorized under the authority of the Public Health Service Act section 301(a); Snyder Act, 25 U.S.C. 13; the Transfer Act, 42 U.S.C. 2001; and the Indian Health Care Improvement Act, 25 U.S.C. 1621(b), et seq., as amended. This Program is described under 93.443 in the Catalog of Federal Domestic Assistance (CFDA).

The purpose of the program is to enable American Indian/Alaska Native (AI/AN) communities to enhance and expand health promotion and reduce chronic disease by: increasing physical activity, avoiding the use of tobacco and alcohol, and improving nutrition to support healthier AI/AN communities through innovative and effective community, school, clinic and work site health promotion and chronic disease prevention programs. The IHS HP/DP Initiative focuses on enhancing and expanding health promotion and chronic disease prevention to reduce health disparities among AI/AN populations. The initiative is fully integrated with the Department of Health and Human Services (HHS) Initiatives “Healthy People 2010.” Potential applicants may obtain a printed copy of Healthy People 2010, (Summary Report No. 017-001-00549-5) or CD-ROM, Stock No. 017-001-00549-5, through the Superintendent of Documents, Government Printing Office, P.O. Box 371954, Pittsburgh, PA 15250-7945, (202) 512-1800. You may also access this information at the following Web sites: http://www.healthypeople.gov/Publications and http://www.healthierus.gov/.

The HP/DP Initiative targets cardiovascular disease, cancer, obesity, and underage drinking prevention and intervention efforts in AI/AN communities. Focus efforts include enhancing and maintaining personal and behavioral factors that support healthy lifestyles such as making healthier food choices, avoiding the use of tobacco and alcohol, being physically active, and demonstrating other positive behaviors to achieve and maintain good health. Major focus areas include preventing and controlling obesity by developing and implementing science-based nutrition and physical activity interventions (i.e., increase consumption of fruits and vegetables, reduce consumption of foods that are high in fat, increase breast feeding, reduce television time, and increase opportunities for physical activity). Other focal areas include preventing the consumption of alcohol and tobacco use among youth, increasing accessibility to tobacco cessation programs, and reducing exposure to second-hand smoke.

The HP/DP initiative encourages Tribal applicants to fully engage their local schools, communities, health care providers, health centers, faith-based/spiritual communities, elderly centers, youth programs, local governments, academia, non-profit organizations, and many other community sectors to work together to enhance and promote health and prevent chronic disease in their communities. The initiative is described in the Catalog of Federal Domestic Assistance No. 93.443 at http://www.cfda.gov/ and is not subject to the intergovernmental requirements of Executive Order 12372 or the Health Systems Agency review. This competitive grant is awarded under the authorization of the Snyder Act, 25 U.S.C. 13; the Transfer Act, 42 U.S.C. 2001; and the Indian Health Care Improvement Act, 25 U.S.C. 1621(b), et seq., as amended. The grant will be administered under the Public Health Service (PHS) Grants Policy Statement and other applicable agency policies. The HHS is committed to achieving the health promotion and disease prevention objectives of Healthy People 2010, a HHS-led activity for setting and monitoring program for priority areas. This program announcement is related to the priority area of Education and Community-Based Programs. Potential applicants may obtain a printed copy of Healthy People 2010, (Summary Report No. 017-001-00549-5) or CD-ROM, Stock No. 017-001-00549-5, through the Superintendent of Documents, Government Printing Office, P.O. Box 371954, Pittsburgh, PA 15250-7945, (202) 512-1800. You may also access this information at the following Web site: http://www.healthypeople.gov/.

Background

Heart disease, cancer and unintentional injuries are the leading cause of morbidity and mortality among AI/AN. Many of these diseases and injuries are impacted by modifiable behavioral risk factors such as physical inactivity, unhealthy diet, commercial tobacco use, and alcohol abuse. Concerted efforts to increase effective public health, prevention, and intervention strategies are necessary to reduce tobacco/alcohol use, poor diet, and insufficient physical activity to reduce the burden of diseases and disabilities in AI/AN communities. Despite the well known benefits of physical activity, many adults and children remain sedentary. A healthy diet and regular physical activity are both important for maintaining a healthy weight. Regular physical activity, fitness, and exercise are extremely important for the health and well being of all people. A proliferation of fast food restaurants and convenience stores selling foods that are high in fat and sugar, as well as sedentary lifestyles have translated into weight gain and obesity. There are also epidemiological studies indicating that increased intake of fruits and vegetables decreases the risk of many types of cancer. Many of the medical and health problems of AI/AN are associated with obesity. According to the IHS Clinical Reporting System data, more than 80% of the adults are either overweight or obese and 49% of the children (ages 6 to 11) are overweight or obese. Tobacco use is the largest preventable cause of disease and premature death in the United States. More than 400,000 Americans die each year from illnesses related to smoking. Cardiovascular disease and lung cancer are the leading causes of death among AI/AN, and tobacco use is one of the risk factors for these diseases. Non-ceremonial tobacco use varies amongst AI/AN regions and states. Alcohol use is associated with serious public health problems including violence, motor vehicle crashes, and teen pregnancy among youth. Long term drinking can lead to heart disease, cancer, and alcohol-related liver disease. Interventions may include environmental and policy changes in the community, school, clinic or work site to increase physical activity, increase healthier food items at school fund raising, vending machines, school food service, senior centers, shopping centers, food vendors, work sites, Tribal colleges and other community settings. Other strategies include implementing tobacco-free policies in the workplace and clinics, increasing access to safe walking trails, improving access to tobacco cessation programs, utilizing social marketing to promote change and prevent disease, reducing underage drinking, increasing effective self management of chronic disease and associated risk factors, and increasing evidence-based clinical preventive care practices. Programs are expected to utilize evidence-based public health strategies that may include system improvement, public education and information, media campaigns to support healthier behaviors, policy and environmental changes, community capacity building and training, school classroom curricula, and health care provider education.

Identify and implement high priority, effective strategies proven to prevent, reduce and control chronic diseases. The communities must examine their chronic disease burden, identify behavioral risk factors, at-risk populations, current services and resources, Tribal and IHS strategic plans, and partnership capabilities in order to develop a comprehensive intervention plan. Applicants are encouraged to identify and examine local data sources to describe the extent of the health problem. Data sources include IHS Resource Patient Management System (RPMS), Government Performance and Results Act (GPRA), Clinical Registry System (CRS), diabetes registry, hospital/clinic data, Women Infant Children (WIC) data, school data, behavioral risk surveys, and other sources of information about individual, group, or community health status, needs, and resources. Communities can address behavioral risk factors contributing to chronic conditions and diseases such as cardiovascular disease, diabetes, obesity, and cancer. These factors include physical inactivity, poor nutrition, commercial tobacco use, alcohol and substance use. Applicants are encouraged to apply effective and innovative strategies to reduce chronic disease and unintentional injuries associated with alcohol and substance use. Current evidence-based and promising public health strategies can be found at the IHS Best Practices database at http://www.ihs.gov/NonMedicalPrograms/HPDP/BPTR/, Guide to Clinical Preventive Services at http://www.odphp.osophs.dhhs.gov/pubs/guidecps/, and http://www.ahrq.gov and the National Registry for Effective Programs at http://www.nrepp.samhsa.gov/.

II. Award Information

Type of Awards: Cooperative Agreement.

Estimated Funds Available: $1,100,000.

Anticipated Number of Awards: 11.

Project Period: 3 Year Budget Period.

Maximum Award Amount: $100,000 per year.

This amount is inclusive of direct and indirect costs. Awards under this announcement are subject to the availability of funds and satisfactory performance. Future continuation awards within the project period will be based on satisfactory performance, availability of funding and continuing needs of the IHS. If you request funding greater than $100,000, your application may not be considered, and it may not be entered into the review process. You will be notified if your application does not meet submission requirements, and your application will be returned to you.

Cooperative Agreement

This award is a cooperative agreement because it requires substantial Federal programmatic participation in the implementation and evaluation of the project. IHS will be responsible for activities listed under B1-4.

Substantial Involvement Description for Cooperative Agreement

A. Cooperative Agreement Award Activities

(1) All recipient activities funded under this program announcement are required to coordinate with existing Federal, local public health agencies, Tribal programs, and/or local coalitions/task forces to enhance joint efforts to strengthen health promotion and disease prevention programs in the community, school and/or work site. All recipients are required to address at least one of the following or a combination of all four components: School, work site, clinic, or community based interventions.

(2) Successful applicants funded through this Request For Application (RFA) are required to identify a project coordinator who has the authority and responsibility to plan, implement, and evaluate the project.

(3) Budget for the project coordinator to attend a two-day New Grantee Meeting/Training in Albuquerque, New Mexico in the first year of the grant award.

(4) The Government Performance and Results Act of 1993 (Pub. L. 103-62, or “GPRA”) requires all Federal agencies to set program performance baselines and targets and to report annually on the degree to which the annual targets were met. As part of the government's GPRA guidelines, all HP/DP grantees are required to provide data on the following core measures for community, school, worksite, and clinic-based prevention projects. Applicants must demonstrate their ability to collect and report on these measures in their applications:

• Baseline data of tobacco and/or alcohol use among targeted population;

• Perception of alcohol/tobacco use among youth and adults;

• Frequency of fruits and vegetable consumption within the past 30 days;

• Frequency of physical education provided in the schools or afterschool programs;

• Policies pertaining to tobacco, physical education, worksite wellness, vending machines offering healthier snacks and beverages; and

• Self-reported physical activity level within the past 30 days.

The terms and conditions of the award will specify how the data is to be submitted and the schedule for submission of data using an online data reporting system that is under development. If funded, each successful applicant will be required to submit a comprehensive plan to HP/DP outlining specifically how the grantee will comply with the data reporting requirements outlined above. This plan will be due no later than 30 days after receipt of the Notice of Grant Award.

(5) Develop a work plan that is based on local need, health data and prioritized for wellness. The plan will include specific objectives, action steps, responsible person, time line, and evaluation.

(6) The project coordinator will participate on quarterly teleconferences and participate in the site visits in the first year of the funding.

(7) The project coordinator will collaborate with the IHS HP/DP project officer and IHS contractor.

B. Indian Health Service Cooperative Agreement

(1) The IHS HP/DP Coordinator or designee will serve as project officer.

(2) The HP/DP program will provide consultation and technical assistance. Technical assistance includes program implementation, marketing, data management, evaluation, reporting, and sharing with other grantees.

(3) An IHS contractor (designated by HP/DP program) will be responsible for technical assistance oversight, monitoring reporting of projects, conference calls, and site visits. The IHS contractor serves as a technical liaison to the IHS HP/DP program and the HP/DP grantees.

(4) The IHS and the contractor will coordinate a training workshop for the project coordinators to share lessons learned, successes, challenges, and strategies to expand best/promising practices.

III. Eligibility Information

1. Eligible Applicants must be one of the following as defined by 25 U.S.C. 1603

i. A Federally-recognized Indian Tribe 25 U.S.C. 1603(d);

ii. Tribal organization 25 U.S.C. 1603(e);

iii. Urban Indian organization as defined by 25 U.S.C. 1603(h). Applicants must provide proof of non-profit status with the application, e.g. 501(c)3.

2. Cost Sharing or Matching

Cost sharing or matching is not required

3. Other Requirements

• Late applications will be considered non-responsive. See Section “IV.3. Submission Dates and Times” for more information on deadlines.

• Tribal Resolution(s)—A resolution of the Indian Tribe served by the project should accompany the application submission. An Indian Tribe that is proposing a project affecting another Indian Tribe must include resolutions from all affected Tribes to be served. Draft resolutions may be submitted in lieu of an official signed resolution. The applicant must state when the final resolution will be obtained and submitted. An official signed Tribal resolution is required prior to award date if the Tribe is selected for funding. The entity should submit the resolution (draft or final) prior to the application review date or the application will be considered incomplete and it will be returned without consideration.

IV. Application and Submission Information

1. Applicant package may be found in Grants.gov (www.grants.gov) or at http://www.ihs.gov/NonMedicalPrograms/gogp/gogp_funding.asp. Information regarding the electronic application process may be directed to Michelle G. Bulls, at (301) 443-6528 or Michelle.Bulls@ihs.gov. The entire application package is available at: http://www.grants.gov/Apply. Detailed application instructions for this announcement are downloadable on www.grants.gov.

2. Content and Form of Application Submission

A. All applications should

(1) Be single-spaced.

(2) Be typewritten.

(3) Have consecutively numbered pages.

(4) If unable to submit electronically, submit using a black type not smaller than 12 characters per one inch.

i. Submit on one side only of standard size 8½″ x 11″ paper.

ii. Do not tab, glue, or place in a plastic holder.

(5) Contain a narrative that does not exceed 20 typed pages that meets the other submission requirements below. The 20-page narrative should not include the standard forms, Tribal resolution(s), table of contents, budget, budget justifications, multi-year narratives, multi-year budget, multi-year budget justifications, and/or other appendix items.

Public Policy Requirements: All Federal-wide public policies apply to IHS grants with the exception of the Lobbying and Discrimination Policy.

B. Include in the application the following documents in the order presented

(1) Standard Form 424, Application for Federal Assistance.

(2) Standard Form 424A, Budget Information—Non-Construction Programs (pages 1-2).

(3) Standard Form 424B, Assurances—Non-Construction Programs front and back. The application shall contain assurances to the Secretary that the applicant will comply with program regulations, 42 CFR Part 136 Subpart H.

(4) Certification.

(5) Disclosure of Lobbying Activities.

(6) Project Abstract (may not exceed one typewritten page) which should present a summary view of “who-what-when-where-how-cost” to determine acceptability for review.

(7) Table of Contents with corresponding numbered pages.

(8) Project Narrative (not to exceed 20 typewritten pages).

(9) Categorical Budget Narrative and Budget Justification.

(10) Appendix Items.

3. Submission Dates and Times

Applications must be submitted electronically through Grants.gov by 12 midnight Eastern Standard Time (EST) on July 17, 2009. If technical challenges arise and the applicant is unable to successfully complete the electronic application process, the applicant should contact Michelle G. Bulls, Grants Policy Staff Director at (301) 443-6528, at least fifteen days prior to the application deadline and advise of the difficulties their organization is experiencing. At that time, a determination will be made as to whether the organization is eligible to receive a waiver from the required submission process to submit a paper application which includes the original and 2 copies. Prior approval must be obtained from the Grants Policy Staff in writing allowing a paper submission. Applications not submitted through Grants.gov, without an approved waiver, may be returned to the applicant without review and consideration. Each applicant should request a legibly dated U.S. Postal Service postmark or obtain a legibly dated receipt from a commercial carrier or U.S. Postal Service. Private metered postmarks will not be acceptable as proof of timely mailing.

Extension of deadlines: IHS may extend application deadlines when circumstances such as acts of God (floods, hurricanes, etc.) occur, or when there are widespread disruptions of mail service, or in other rare cases. Determination to extend or waive deadline requirements rests with the Grants Management Officer, Division of Grants Operations (DGO). Late applications will be returned to the applicant without review or consideration. IHS will not acknowledge receipt of applications under this announcement.

4. Intergovernmental Review

Executive Order 12372 requiring intergovernmental review is not applicable to this program.

5. Funding Restrictions

A. Pre-award costs are allowable pending prior approval from the awarding agency. However, in accordance with 45 CFR Part 74 all pre-award costs are incurred at the recipient's risk. The awarding office is under no obligation to reimburse such costs if for any reason the applicant does not receive an award or if the award to the recipient is less than anticipated.

B. Funds may be used to expand or enhance existing activities to accomplish the objectives of this program announcement. Funds may be used to pay for consultants, contractors, materials, resources, travel and associated expenses to implement and evaluate intervention activities such as those described under the “Activities” section of this announcement. Funds may not be used for direct patient care, diagnostic medical testing, patient rehabilitation, pharmaceutical purchases, facilities construction, or lobbying.

C. Each HP/DP award shall not exceed $100,000 a year or a total of $300,000 for 3 years.

D. The available funds are inclusive of direct and indirect costs.

E. Only one grant will be awarded per applicant.

6. Other Submission Requirements

A. Electronic Transmission: The preferred method for receipt of applications is electronic submission through Grants.gov. However, should any technical challenges arise regarding the submission, please contact Grants.gov Customer Support at (800) 518-4726 or e-mail your questions to support@grants.gov. The Contact Center hours of operation are Monday-Friday from 7 a.m. to 9 p.m. (Eastern Standard Time). The applicant must seek assistance at least fifteen days prior to the application deadline. Applicants that do not adhere to the timelines for Central Contractor Registry (CCR) and/or Grants.gov registration and/or request timely assistance with technical issues will not be a candidate for paper applications.

To submit an application electronically, please use the Grants.gov Web site, http://www.grants.gov and select the “Apply for Grants” link on the homepage. Download a copy of the application package on the Grants.gov Web site, complete it offline and then upload and submit the application via the Grants.gov site. You may not e-mail an electronic copy of a grant application to IHS.

Please be reminded of the following:

• Under the new IHS requirements, paper applications are not the preferred method. However, if you have technical problems submitting your application online, please contact Grants.gov Customer Support at: http://www.grants.gov/CustomerSupport.

• Upon contacting Grants.gov, obtain a tracking number as proof of contact. The tracking number is helpful if there are technical issues that cannot be resolved and a waiver request from Grants Policy must be obtained.

• If it is determined that a formal waiver is necessary, the applicant must submit a request, in writing (e-mails are acceptable), to Michelle.Bulls@ihs.gov that includes a justification for the need to deviate from the standard electronic submission process. Upon receipt of approval, a hard copy application package must be downloaded by the applicant from Grants.gov, and sent directly to the Division of Grants Management/Operations (DGO), 801 Thompson Avenue, TMP 360, Rockville, MD 20852 by the due date, July 17, 2009.

• Upon entering the Grants.gov site, there is information available that outlines the requirements to the applicant regarding electronic submission of an application through Grants.gov, as well as the hours of operation. Applicants must not wait until the deadline date to begin the application process through Grants.gov as the registration process for CCR could take up to fifteen working days.

• To use Grants.gov, you, as the applicant, must have a Dun and Bradstreet Data Universal Numbering System (DUNS) Number and register in the CCR. You should allow a minimum of ten working days to complete CCR registration. See below on how to apply.

• You must submit all documents electronically, including all information typically included on the SF 424 and all necessary assurances and certifications.

• Please use the optional attachment feature in Grants.gov to attach additional documentation that may be requested by IHS.

• Your application must comply with any page limitation requirements described in the program announcement.

• After you electronically submit your application, you will receive an automatic acknowledgment from Grants.gov that contains a Grants.gov tracking number. The DGO will retrieve your application from Grants.gov. The DGO will not notify applicants that the application has been received.

• You may access the electronic application for this program on http://www.Grants.gov.

• You may search for the downloadable application package using the CFDA number (93.443) or the Funding Opportunity Number (HHS-2009-IHS-HPDP-0001). Both numbers are identified in the heading of this announcement.

• The applicant must provide the Funding Opportunity Number: HHS-2009-IHS-HPDP-0001.

E-mail applications will not be accepted under this announcement.

B. DUNS Number:

Beginning October 1, 2003, applicants were required to have a Dun and Bradstreet (DUNS) number. The DUNS number is a nine-digit identification number which uniquely identifies business entities. Obtaining a DUNS number is easy and there is no charge. To obtain a DUNS number, access http://www.dnb.com/us/ or call (866) 705-5711. Interested parties may wish to obtain their DUNS number by phone to expedite the process. Applications submitted electronically must also be registered with the CCR. A DUNS number is required before CCR registration can be completed. Many organizations may already have a DUNS number. Please use the telephone number listed above to investigate whether or not your organization has a DUNS number. Registration with the CCR is free of charge. Applicants may register by calling (888) 227-2423. Applicants must also be registered with the CCR to submit electronically. Please review and complete the CCR “Registration Worksheet” located in the appendix of the HP/DP application package or on http://www.Grants.gov/CCRRegister. More detailed information regarding these registration processes can be found at the http://www.Grants.gov Web site.

C. Other Requirements:

(1) Please number pages consecutively from beginning to end so that information can be located easily during review of the application. Appendices should be labeled and separated from the Project Narrative and Budget Section, and the pages should be numbered to continue the sequence.

(2) Abstract—describing the overall project, intervention area and population size, partnerships, intervention strategies, and major outcomes. The abstract is limited to 1 page.

(3) Table of Contents—with page numbers for each of the following sections.

(4) Application Narrative—the application narrative (excluding the appendices) must be no more than 20 pages, single-spaced, printed on one side, with one-inch margins, and black type not smaller than 12 characters per one inch. You MUST respond to every question/request in each category of the Project Narrative individually. You MUST retype the bold portion of every section header, question or request directly above each individual response you provide. Be sure to place all responses and required information in the correct section or they will not be considered or scored. If your narrative exceeds the page limit, only the first 20 pages will be reviewed. The narrative should include background and needs; intervention plan (including a work plan table); monitoring and evaluation; organizational capabilities and qualifications; communication and information sharing. The narrative should include a summary of the organizations that have submitted letters of support, resolution, and Memorandum of Understanding (MOU) (as appropriate) from the local key partners specifying their roles, responsibilities, and resources. Actual letters, resolution, and MOU should be placed in the appendix.

(5) Line-Item Budget Narrative and Budget Justification—detailed budget by line items and a detailed budget narrative justification explaining why each budget line item is necessary/relevant to the proposed project (personnel, supplies, equipment, training, etc.). You may include in-kind services to carry out proposed plans.

(6) Appendix—the following additional information may be included in the appendix. The appendices will not be counted toward the narrative page limit. Appendices are limited to the following items:

a. Multi-Year Categorical Budgets and Multi-Year Budget Narrative Justifications.

b. Categorical Budget Line-Items and Budget Narrative Justification.

c. Tribal Resolution(s) or Health Board Resolution(s).

d. Organizational Chart(s).

e. Letters of Support, Resolution, or Memorandum of Understanding.

f. Resumes of key staff that reflect current duties.

g. Indirect Cost Rate Agreement.

h. Proposed Contractual or Consultant Scope of Work, if applicable.

i. Resumes or Qualifications of Contractors or Consultants, if applicable.

V. Application Review Information

1. Criteria

You are required to provide measurable objectives related to the performance goals and intended outcome. Applicants will be evaluated and rated according to weights assigned to each section as noted in parentheses.

A. Abstract. (no points)

B. Background and Needs. (Total 20 points)

• Is the proposed intervention and the extent of the problem clearly and thoroughly described, including the targeted population served and geographic location of the proposed project? (5 points) Please retype this heading in your responses.

• Are data provided to substantiate the existing burden and/or disparities of chronic diseases and conditions in the target population to be served? (5 points) Please retype this heading in your responses.

• Are assets and barriers to successful program implementation identified? (5 points) Please retype this heading in your responses.

• How well are existing resources used to complement or contribute to the effort planned in the proposal? (5 points) Please retype this heading in your responses.

C. Intervention Plan. (Total 30 points)

• Does the plan include objectives, strategies, and activities that are specific, realistic, measurable, and time phased related to identified needs and gaps in existing programs? (10 points) Please retype this heading in your responses.

• Does the proposed plan include intervention strategies to address risk factors contributing to chronic conditions and diseases? (5 points) Please retype this heading in your responses.

• How well does the plan reflect local capacity to provide, improve, or expand services that address the needs of the target population? (5 points) Please retype this heading in your responses.

• Does the proposed plan include the action steps in a time line that identify who will be responsible to coordinate the project, develop and collect the evaluation, and provide training if any? Provide the work plan/time line in the appendix. (5 points) Please retype this heading in your responses.

• If the plan includes consultants or contractors, does the plan include educational requirements, work experience and qualifications, expected work products to be delivered and a time line? If a potential consultant/contractor has already been identified, please include a resume in the appendix. (5 points) Please retype this heading in your responses.

• You must present the details of your plan in table format as shown below. You may use 10 pt Times New Roman font inside the table (for the rest of the application you must use 12 pt). The table should fall within the text of this section (not an attachment). NOTE: this table counts toward your overall page limit. Please develop a multi year work plan that includes the goal, objective, target date, responsible party, output and outcome evaluation.

Grant Implementation Action Plan
Activity | Responsible party(s) | Target date | Output (e.g., how you know it's done) | Outcome (e.g., the expected impact)
Goal:
Objective 1:
xxx xxx | xxx xxx | xxx xxx | xxx xxx | xxx xxx
Objective 2:

D. Plan for Monitoring and Program Evaluation. (Total 20 points)

• Core Measurement Requirement: As a HP/DP grantee, does your plan reflect the required pertinent measures bulleted below: (5 points) Please retype this heading in your responses.

(1) Baseline data of tobacco and/or alcohol use among targeted population;

(2) Perception of alcohol/tobacco use among youth and adults;

(3) Frequency of fruits and vegetable consumption within the past 30 days;

(4) Frequency of physical education provided in the schools or afterschool programs;

(5) Policies pertaining to tobacco, physical education, worksite wellness, vending machines offering healthier snacks and beverages; and

(6) Self-reported physical activity level within the past 30 days.

• Does the plan describe appropriate data sources to monitor and track changes in community capacity; the extent to which interventions reach populations at risk; changes in risk factors; and changes in program efficiency? (5 points) Please retype this heading in your responses.

• Does the applicant demonstrate the capability to conduct surveillance and program evaluation, access and analyze data sources, and use the evaluation to strengthen the program? (5 points) Please retype this heading in your responses.

• Does the applicant describe how the project is anticipated to improve specific performance measures and outcomes compared to baseline performance? (5 points) Please retype this heading in your responses.

E. Organizational Capabilities, Qualifications and Collaboration. (Total 10 points)

• Does the plan include the organizational structure of the Tribe/Tribal or Urban Indian organization? (1 point) Please retype this heading in your responses.

• Does the plan include the ability of the organization to manage the proposed plans, including information on similar sized projects in scope as well as other grants and projects successfully completed? (2 points) Please retype this heading in your responses.

• Does the applicant include key personnel who will work on the project? Position descriptions should clearly describe each position and duties, qualifications and experiences related to the proposed plan. Resumes must indicate the staff qualifications to carry out the proposed plan and activities. (2 points) Please retype this heading in your responses.

• How will the plan be sustained after the grant ends? (2 points) Please retype this heading in your responses.

• Does the applicant describe key partners specifying their roles, responsibilities, and resources (MOU, Letters of Support are provided in the appendix). (3 points) Please retype this heading in your responses.

F. Communication and Information Sharing. (Total 10 points)

• Does the applicant describe plans to share experiences, strategies, and results with other interested communities and partners? (5 points) Please retype this heading in your responses.

• Does the applicant describe plans to ensure effective and timely communication and exchange of information, experiences and results through mechanisms such as the Internet, workshops, and other methods? (5 points) Please retype this heading in your responses.

G. Budget Justification. (Total 10 points)

• Is the budget reasonable and consistent with the proposed activities and intent of the program? (4 points) Please retype this heading in your responses.

• Does the budget narrative justification explain each line item and the relevancy to the proposed plan? (4 points) Please retype this heading in your responses.

• Does the budget include in-kind services? (2 points) Please retype this heading in your responses.

2. Review and Selection Process

Applications will be reviewed for timeliness and completeness by the DGO and for responsiveness by the HP/DP staff. Late and incomplete applications will be considered ineligible and will be returned to the applicant without review. Applications will be evaluated and rated based on the evaluation criteria listed in Section V.1. Applicants will be notified if their application did not meet submission requirements. In addition to the above criteria/requirements, applications are considered according to the following:

A. Proposals will be reviewed for merit by the Objective Review Committee consisting of Federal and non-Federal reviewers appointed by the IHS.

B. The technical review process ensures the selection of quality projects in a national competition for limited funding. After review of the applications, rating scores will be ranked, and the applications with the highest rating scores will be recommended for funding. Applicants scoring below 60 points will be disapproved.

3. Anticipated Announcement and Award Dates

Earliest anticipated award date is August 3, 2009.

VI. Award Administration Information

1. Award Notices

Notification: July 28, 2009

The Notice of Award (NoA) will be initiated by the DGO and will be mailed via postal mail on or before August 3, 2009 to each entity that is approved for funding under this announcement. The NoA will be signed by the Grants Management Officer and this is the authorizing document for which funds are dispersed to the approved entities. The NoA will serve as the official notification of the grant award and will reflect the amount of Federal financial funds awarded, the purpose of the grant, the terms and conditions of the award, the effective date of the award, and the budget/project period. The NoA is the legally binding document. Applicants who are approved but unfunded or disapproved based on their Objective Review score will receive a copy of the Executive Summary which identifies the weaknesses and strengths of the application submitted.

2. Administrative and National Policy Requirements

A. 45 CFR Part 92, “Uniform Administrative Requirements for Grants and Cooperative Agreements to State, Local, and Tribal Governments,” or 45 CFR Part 74, “Uniform Administration Requirements for Awards and Subawards to Institutions of Higher Education, Hospitals, Other Non Profit Organizations, and Commercial Organizations.”

B. Appropriate Cost Principles: OMB Circular A-87, “State, Local, and Indian Tribal Governments,” (Title 2 Part 225) or OMB Circular A-122, “Non-Profit Organizations.” (Title 2 Part 230).

C. OMB Circular A-133, “Audits of States, Local Governments, and Non-Profit Organizations.”

D. Grants Policy Guidance: HHS Grants Policy Statement 01/2007.

Indirect Costs:

This section applies to all grant recipients that request indirect costs in their application. In accordance with HHS Grants Policy Statement, Part II-27, IHS requires applicants to have a current indirect cost rate agreement in place prior to award. The rate agreement must be prepared in accordance with the applicable cost principles and guidance as provided by the cognizant agency or office. A current rate means the rate covering the applicable activities and the award budget period. If the current rate is not on file with the awarding office, the award shall include funds for reimbursement of indirect costs. However, the indirect cost portion will remain restricted until the current rate is provided to the Division of Grant Operations (DGO).

Generally, indirect cost rates for IHS Tribal organization grantees are negotiated with the Division of Cost Allocation at http://rates.psc.gov/, and indirect cost rates that are for IHS-funded, Federally-recognized Tribes are negotiated with the Department of Interior. If your organization has questions regarding the indirect cost policy, please contact the DGO at (301) 443-5204.

3. Reporting

A. Progress Report—Program progress reports are required semi-annually by March 1 and September 1 of each funding year. These reports will include a brief comparison of actual accomplishments to the goals established for the period, reasons for slippage (if applicable), and other pertinent information as required. A final report must be submitted within 90 days of expiration of the budget/project period.

B. Financial Status Report—Annual financial status reports (FSR) must be submitted 90 days after the end of each Budget Period. Final FSRs are due within 90 days of expiration of the project period. Standard Form 269 (long form) can be downloaded from: http://www.whitehouse.gov/omb/grants/sf269.pdf for financial reporting.

Failure to submit required reports may result in one or both of the following:

A. The imposition of special award provisions; and

B. The withholding of support of other eligible projects or activities. This applies whether the delinquency is attributable to the failure of the grantee organization or the individual responsible for preparation of the reports.

VII. Agency Contact(s)

1. Information regarding the program or grants management related inquiries may be obtained from either of the following persons:

Program Contact: Ms. Alberta Becenti, Division of Clinical & Preventive Services, Indian Health Service, 5300 Homestead Rd., NE., Albuquerque, New Mexico 87110, Phone: (301) 443-4305.

Grants Policy Contact: Ms. Sylvia Ryan, Division of Grants Management/Operations, Indian Health Service, 801 Thompson Avenue, Suite 320, Rockville, Maryland 20852, Phone: (301) 443-5204.

The Public Health Service (PHS) strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the PHS mission to protect and advance the physical and mental health of the American people.

Dated: June 3, 2009.
Randy Grinnell,
Deputy Director, Indian Health Service.

[FR Doc. E9-14046 Filed 6-15-09; 8:45 am]

BILLING CODE 4165-16-P